COMMITTEE FOR PURCHASE FROM PEOPLE WHO ARE BLIND OR SEVERELY DISABLED

Procurement List Proposed Additions and Deletions

AGENCY: Committee for Purchase From People Who Are Blind or Severely Disabled.

ACTION: Proposed Additions to and Deletions from Procurement List.

SUMMARY: The Committee is proposing to add to the Procurement List commodities and a service to be furnished by nonprofit agencies employing persons who are blind or have other severe disabilities, and to delete services previously furnished by such agencies.

COMMENTS MUST BE RECEIVED ON OR BEFORE: January 22, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740

SUPPLEMENTARY INFORMATION: This notice is published pursuant to 41 U.S.C. 47(a) (2) and 41 CFR 51-2.3. Its purpose is to provide interested persons an opportunity to submit comments on the possible impact of the proposed actions.

Additions

If the Committee approves the proposed addition, all entities of the Federal Government (except as otherwise indicated) will be required to procure the commodity and service listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and service to the Government.

2. The action will result in authorizing small entities to furnish the commodities and service to the Government.

3. There are no known regulatory alternatives which would accomplish the objectives of the Javits-Wagner-O'Day Act (41 U.S.C. 46-48c) in connection with the commodities and service proposed for addition to the Procurement List. Comments on this certification are invited. Commenters should identify the statement(s) underlying the certification on which they are providing additional information. The following commodities and service have been proposed for addition to Procurement List for production by the nonprofit agencies listed:

Commodities

Kit, Martial Arms Training, 7810-00-NSH-0001, 7810-00-NSH-0002, 7810-00-NSH-0003

NPA: Chautauqua County Chapter, NYSARC, Jamestown, New York

Service

Janitorial/Custodial, Illinois Air National Guard, 182nd Airlift Wing, Peoria, Illinois

NPA: Community Workshop & Training Center, Peoria, Illinois

Deletions

I certify that the following action will not have a significant impact on a substantial number of small entities. The major factors considered for this certification were:

1. The action will not result in any additional reporting, recordkeeping or other compliance requirements for small entities.

2. The action will result in authorizing small entities to furnish the services to the Government.

3. There are no known regulatory alternatives which would accomplish the objectives of the Javits-Wagner-O'Day Act (41 U.S.C. 46-48c) in connection with the services proposed for deletion from the Procurement List.

The following services have been proposed for deletion from the Procurement List:

Services

Administrative Services, Frank Hagel Federal Building, 1221 Nevin Avenue, Richmond, California

Grounds Maintenance, Mare Island Naval Complex and Roosevelt Terrence, and Combat Systems Technical School Command, Mare Island Naval Shipyard, Vallejo, California

Janitorial/Custodial, U.S. Federal Building and Courthouse, 110 S. 4th Street, Minneapolis, Minnesota

Parts Sorting, Kelly Air Force Base, Texas

Louis R. Bartalot,
Deputy Director (Operations).

[FR Doc. 00-32721 Filed 12-21-00; 8:45 am]

BILLING CODE 6353-01-P